DEPARTMENT OF COMMERCE

National Oceanic and Atmospheric Administration

50 CFR Part 300

[Docket No. 050125016-5016-01; I.D. 011805C]

RIN 0648-AS61

Pacific Halibut Fisheries; Catch Sharing Plan

AGENCY: National Marine Fisheries Service (NMFS), National Oceanic and Atmospheric Administration (NOAA), Commerce.

ACTION: Proposed rule.

SUMMARY: NMFS proposes to approve and implement changes to the International Pacific Halibut Commission's (IPHC) regulatory Area 2A off Washington, Oregon, and California (Area 2A) Pacific Halibut Catch Sharing Plan (Plan) to: allow remaining quota from Washington's south coast subarea to be used to accommodate incidental catch in the south coast nearshore fishery; allow quota projected to be unused to be transferred from Oregon's central coast subarea to another subarea south of Leadbetter Point, WA; revise the season structure for Oregon's all-depth spring and summer sport fisheries; provide more flexibility for Oregon's inseason sport fishery management (triggers for additional fishery openings and bag limits in the all-depth summer fishery); revise the public announcement process for Oregon's all-depth summer sport fishery; revise the Columbia River subarea quota contributions from Oregon/California; remove the minimum length requirement in all subareas south of Leadbetter Point, WA; prohibit retention of all groundfish, except sablefish, in Oregon's and possibly Washington's Columbia River fishery on all days and in the Central Coast fisheries on “all-depth” days; implement a closed area off Oregon's coast; and revise all coordinates from degrees minutes seconds to degrees decimal minutes. NMFS also proposes to revise the coordinates for the closed area to Oregon's central coast recreational fishery and to non-treaty commercial halibut fishing in Area 2A. NMFS is also proposing to implement the portions of the Plan and management measures that are not implemented through the IPHC, which includes the sport fishery management measures for Area 2A, the flexible inseason management provisions in Area 2A, fishery election in Area 2A, and Area 2A non-treaty commercial fishery closed areas. These actions are intended to enhance the conservation of Pacific halibut, to protect yelloweye rockfish and other overfished groundfish species from incidental catch in the halibut fisheries, and to provide greater angler opportunity where available.

DATES: Comments on the proposed changes to the Plan and on the proposed domestic Area 2A halibut management measures must be received no later than 5 p.m., local time on March 16, 2005.

ADDRESSES: Copies of the Plan, Environmental Assessment (EA)/Regulatory Impact Review (RIR)/Initial Regulatory Flexibility Analysis (IRFA), and/or Categorical Exclusion (CE) are available from D. Robert Lohn, Regional Administrator, Northwest Region, NMFS, 7600 Sand Point Way NE, Seattle, WA 98115-0070. Electronic copies of the Plan, including proposed changes for 2005, and of the draft EA/RIR/IRFA are also available at the NMFS Northwest Region website: http://www.nwr.noaa.gov, click on “Pacific Halibut.”

You may submit comments on the proposed rule for the Plan and to domestic Area 2A halibut management measures or supporting documents, identified by [011805C], by any of the following methods:

• E-mail: PHalibut2005.nwr@noaa.gov. Include the I.D. number in the subject line of the message.

• Federal eRulemaking Portal: http://www.regulations.gov. Follow the instructions for submitting comments.

• Mail: D. Robert Lohn, Administrator, Northwest Region, NMFS, Attn: Jamie Goen, 7600 Sand Point Way NE, Seattle, WA 98115-0070.

• Fax: 206-526-6736, Attn: Jamie Goen.

FOR FURTHER INFORMATION CONTACT: Jamie Goen or Yvonne deReynier (Northwest Region, NMFS), phone: 206-526-6150, fax: 206-526-6736 or e-mail: jamie.goen@noaa.gov or yvonne.dereynier@noaa.gov.

SUPPLEMENTARY INFORMATION: The Northern Pacific Halibut Act (Halibut Act) of 1982, at 16 U.S.C. 773c, gives the Secretary of Commerce (Secretary) general responsibility for implementing the provisions of the Halibut Convention between the United States and Canada (Halibut Convention). It requires the Secretary to adopt regulations as may be necessary to carry out the purposes and objectives of the Halibut Convention and the Halibut Act. Section 773c(c) of the Halibut Act authorizes the Regional Fishery Management Councils to develop regulations governing the Pacific halibut catch in their corresponding U.S. Convention waters that are in addition to, but not in conflict with, regulations of the IPHC. Each year between 1988 and 1995, the Pacific Fishery Management Council (Pacific Council) developed a catch sharing plan in accordance with the Halibut Act to allocate the total allowable catch (TAC) of Pacific halibut between treaty Indian and non-treaty harvesters and among non-treaty commercial and sport fisheries in Area 2A.

In 1995, NMFS implemented the Pacific Council-recommended long-term Plan (60 FR 14651, March 20, 1995). In each of the intervening years between 1995 and the present, minor revisions to the Plan have been made to adjust for the changing needs of the fisheries. The Plan allocates 35 percent of the Area 2A TAC plus 25,000 lb (11.3 mt) to Washington treaty Indian tribes in Subarea 2A-1 and 65 percent minus 25,000 lb (11.3 mt) to non-Indian fisheries in Area 2A. The allocation to non-Indian fisheries is divided into three shares, with the Washington sport fishery (north of the Columbia River) receiving 36.6 percent, the Oregon/California sport fishery receiving 31.7 percent, and the commercial fishery receiving 31.7 percent. The commercial fishery is further divided into a directed commercial fishery that is allocated 85 percent of the commercial allocation and an incidental catch in the salmon troll fishery that is allocated 15 percent of the commercial allocation. The directed commercial fishery in Area 2A is confined to southern Washington (south of 46°53.30′ N. lat.), Oregon, and California. North of 46°53.30′ N. lat. (Pt. Chehalis), the Plan allows for incidental halibut retention in the primary limited entry longline sablefish fishery when the overall Area 2A TAC is above 900,000 lb (408.2 mt). The Plan also divides the sport fisheries into seven geographic subareas, each with separate allocations, seasons, and bag limits.

Pacific Council Recommended Changes to the Plan and Domestic Fishing Regulations

Each year, the states (Washington Department of Fish and Wildlife (WDFW) and Oregon Department of Fish and Wildlife (ODFW)) and tribes consider whether changes to the Plan are needed or desired by their fishery participants. Fishery managers from the states hold public meetings before both the September and November Pacific Council meetings to get public input on revisions to the Plan. At the September 2004 Pacific Council meeting, the states recommended several changes to the Plan and the tribes announced that they had no proposal for revising the Plan in 2005. Following the meeting, the states again reviewed their proposals with the public and drafted their recommended revisions for review by the Pacific Council.

At its November 1-5, 2004, meeting in Portland, OR, the Pacific Council considered the results of state-sponsored workshops on the proposed changes to the Plan and public comments, and made the final recommendations for modifications to the Plan as follows:

(1) Allow remaining quota from Washington's south coast subarea to be used to accommodate incidental catch in the south coast nearshore fishery.

(2) Revise the Columbia River subarea quota contributions from Oregon/California to equal the amount of pounds contributed by Washington.

(3) Remove the minimum length requirement in all subareas south of Leadbetter Point, WA.

(4) Revise the season structure for Oregon's all-depth spring and summer sport fisheries in Oregon's central coast subarea (Cape Falcon to Humbug Mountain) from 2-days to 3-days by adding Thursdays to all spring fishery openings after the initial fixed day openings and by adding Sundays to all summer fishery openings.

(5) Provide more flexibility for Oregon's inseason sport fishery management by adding triggers for additional fishery openings and bag limits in the central coast all-depth summer fishery as follows: (a) if after the first scheduled open period of the summer fishery, the remaining central coast quota (combined all-depth and inside 40-fm (73-m) fishery quotas) is 60,000 lbs (27.2 mt) or more, the fishery reopens every Friday through Sunday until October 31 or quota attainment, whichever is earlier; and (b) if after the third scheduled open period of the summer fishery, the remaining central coast quota (combined all-depth and inside 40-fm (73-m) fishery quotas) is 30,000 lbs (13.6 mt) or more, the fishery reopens every Friday through Sunday until October 31 or quota attainment, whichever is earlier, and the bag limit would increase to two fish per person per day.

(6) Prohibit the retention of all groundfish, except sablefish when allowed by groundfish regulation, in the Columbia River fishery during all days and in the Central Coast fisheries during “all-depth” days.

(7) Revise the public announcement process for the Oregon central coast all-depth summer sport fishery to allow inseason changes to transfer quota and to change the fishery season dates based on the triggers mentioned above to be announced by NMFS via an update to the recreational halibut hotline (i.e., no Federal Register document would be required).

(8) Allow quota projected to be unused to be transferred from Oregon's central coast subarea to another subarea south of Leadbetter Point, WA.

(9) Implement a closed area to recreational halibut fishing off Oregon's central coast on a portion of Stonewall Bank to protect yelloweye rockfish, an overfished groundfish species. This closed area, called a “yelloweye rockfish conservation area,” would be defined by connecting the following coordinates in the order listed:

(1) 44°37.46 N. lat.; 124°24.92 W. long.;

(2) 44°37.46 N. lat.; 124°23.63 W. long.;

(3) 44°28.71 N. lat.; 124°21.80 W. long.;

(4) 44°28.71 N. lat.; 124°24.10 W. long.;

(5) 44°31.42 N. lat.; 124°25.47 W. long.;

(6) and connecting back to 44°37.46 N. lat.; 124°24.92 W. long.

There is confusion over Pacific Council recommendation #6 (above) as to how it would apply to the Columbia River subarea, which is shared by Washington and Oregon. Therefore, NMFS has requested that the Pacific Council clarify this recommendation at the March 6-11, 2005, Pacific Council meeting in Sacramento, CA. The Council adopted a recommendation for “Sub-areas south of Leadbetter Point, Washington” that stated “No groundfish retention except sablefish allowed during the all-depth fishery if halibut are on-board the vessel except south of Humbug Mt.” After the March meeting it became apparent that various Council participants were confused as to exactly where this prohibition would apply. Because of the introductory description (Sub-areas south of Leadbetter Point, Washington), some thought it applied in the entire Columbia River area and the Oregon Central Coast subarea. However, others thought this would only apply off Oregon because it was introduced by Oregon, it had not been discussed in Washington State meetings with Washington fishermen, and because one purpose was to allow dockside enforcement during the groundfish closure seaward of 40 fm (73 m), which only is in place off of Oregon. NMFS has concluded the two possible ways to implement this provision in the Columbia River subarea would be to apply the groundfish retention prohibition to all halibut fishing in the Columbia River subarea or only to vessels that land in Oregon.

Therefore, the Pacific Council will clarify its recommendation at the March 2005 meeting, and the public comment period on this proposed rule will end on March 16, 2005.

Proposed Changes to the Plan

In addition to the Pacific Council's recommendations, NMFS is proposing to revise all coordinates in the Plan from degrees minutes seconds to degrees decimal minutes in order to conform with U.S. Coast Guard standards and the Pacific coast groundfish regulations. NMFS is proposing to approve the Pacific Council recommendations and to implement the above-described changes by making the following changes to the Plan:

In section (d) of the Plan, Treaty Indian Fisheries, revise the first sentence of the first paragraph to read as follows:

Except as provided above in (b)(2), 35 percent of the Area 2A TAC is allocated to 12 treaty Indian tribes in subarea 2A-1, which includes that portion of Area 2A north of Point Chehalis, WA (46°53.30′ N. lat.) and east of 125°44.00′ W. long.

In section (e) of the Plan, Non-Indian Commercial Fisheries, revise the third sentence of paragraph (2) to read as follows:

This fishery is confined to the area south of Subarea 2A-1 (south of Point Chehalis, WA; 46°53.30′ N. lat.).

In section (f) of the Plan, Sport Fisheries, revise the second sentence of paragraph (1)(i) to read as follows:

This subarea is defined as all U.S. waters east of the mouth of the Sekiu River, as defined by a line extending from 48°17.30′ N. lat., 124°23.70′ W. long. north to 48°24.10′ N. lat., 124°23.70′ W. long., including Puget Sound.

In section (f) of the Plan, Sport Fisheries, revise the second sentence of paragraph (1)(ii) to read as follows:

This subarea is defined as all U.S. waters west of the mouth of the Sekiu River, as defined above in paragraph (f)(1)(i), and north of the Queets River (47°31.70′ N. lat.).

In section (f) of the Plan, Sport Fisheries, revise the last sentence of paragraph (1)(ii) to read as follows:

A “C-shaped” yelloweye rockfish conservation area that is closed to recreational groundfish and halibut fishing is defined by the following coordinates in the order listed:

(1) 48°18.00′ N. lat.; 125°18.00′ W. long.;

(2) 48°18.00′ N. lat.; 124°59.00′ W. long.;

(3) 48°11.00′ N. lat.; 124°59.00′ W. long.;

(4) 48°11.00′ N. lat.; 125°11.00′ W. long.;

(5) 48°04.00′ N. lat.; 125°11.00′ W. long.;

(6) 48°04.00′ N. lat.; 124°59.00′ W. long.;

(7) 48°00.00′ N. lat.; 124°59.00′ W. long.;

(8) 48°00.00′ N. lat.; 125°18.00′ W. long.; and connecting back to 48°18.00′ N. lat.; 125°18.00′ W.long.

In section (f) of the Plan, Sport Fisheries, revise paragraph (1)(iii) from the second sentence to the end of the paragraph to read as follows:

This subarea is defined as waters south of the Queets River (47°31.70′ N. lat.) and north of Leadbetter Point (46°38.17′ N. lat.). The structuring objective for this subarea is to maximize the season length, while maintaining a quality fishing experience. The fishery will open on May 1. If May 1 falls on a Friday or Saturday, the fishery will open on the following Sunday. The fishery will be open Sunday through Thursday in all areas, except where prohibited, and the fishery will be open 7 days per week in the area from Queets River south to 47°00.00′ N. lat. and east of 124°40.00′ W. long. Beginning July 1, the halibut fishery will be open 7 days per week. The fishery will continue until September 30, or until the quota is achieved, whichever occurs first. Subsequent to this closure, if there is insufficient quota remaining to reopen the entire subarea for another fishing day, then any remaining quota may be used to accommodate incidental catch in the nearshore area from Queets River south to 47°00.00′ N. lat. and east of 124°40.00′ W. long. or be transferred inseason to another Washington coastal subarea by NMFS via an update to the recreational halibut hotline. The daily bag limit is one halibut per person, with no size limit.

In section (f) of the Plan, Sport Fisheries, revise paragraph (1)(iv) regarding the Columbia River subarea to read as follows:

This sport fishery subarea is allocated 2.0 percent of the first 130,845 lb (59.4 mt) allocated to the Washington sport fishery, and 4.0 percent of the Washington sport allocation between 130,845 lb (59.4 mt) and 224,110 lb (101.7 mt) (except as provided in section (e)(3) of this Plan). This subarea also is allocated from the Oregon/California sport allocation the number of pounds equal to the Washington contribution. Oregon's contribution will be 2.0 percent of the total Oregon/California sport allocation. Any additional pounds needed to equal the number of pounds contributed to the Columbia River subarea from the Washington allocation will come from the Oregon Central Coast subarea allocation. This subarea is defined as waters south of Leadbetter Point, WA (46°38.17′ N. lat.) and north of Cape Falcon, OR (45°46.00′ N. lat.). The fishery will open on May 1, and continue 7 days per week until the subquota is estimated to have been taken, or September 30, whichever is earlier. Subsequent to this closure, if there is insufficient quota remaining in the Columbia River subarea for another fishing day, then any remaining quota may be transferred inseason to another Washington and/or Oregon subarea by NMFS via an update to the recreational halibut hotline. Any remaining state's quota would be transferred to that state. The daily bag limit is one halibut per person, with no size limit. [The following two options are being considered. Option 1: No groundfish may be retained, except sablefish when allowed by groundfish regulations, by anglers landing in Oregon if halibut are on board the vessel; or option 2: No groundfish may be retained, except sablefish when allowed by groundfish regulations, if halibut are on board the vessel.]

In section (f) of the Plan, Sport Fisheries, revise paragraph (1)(v) to read as follows:

This subarea extends from Cape Falcon (45°46.00′ N. lat.) to Humbug Mountain, OR (42°40.50′ N. lat.) and is allocated 95.0 percent of the Oregon/California sport allocation minus any amount of pounds needed to contribute to the Oregon portion of the Columbia River subarea quota. The structuring objectives for this subarea are to provide two periods of fishing opportunity in spring and in summer in productive deeper water areas along the coast, principally for charterboat and larger private boat anglers, and to provide a period of fishing opportunity in the summer for nearshore waters for small boat anglers. Fixed season dates will be established preseason for the spring opening and will not be modified inseason except that the spring opening may be modified inseason if the combined Oregon all-depth spring and summer season total quotas are estimated to be achieved. Recent year catch rates will be used as a guideline for estimating the catch rate for the spring fishery each year. The number of fixed season days established will be based on the projected catch per day with the intent of not exceeding the subarea season quota. ODFW will monitor landings and provide a post-season estimate of catch within one week of the end of the fixed season. If sufficient catch remains for an additional day of fishing after the spring season, openings will be provided if possible in May - July. Potential additional open dates for both the spring (May - July) and summer (August - October) seasons will be announced preseason. If a decision is made inseason to allow fishing on one or more such additional days, notice of the opening will be announced on the NMFS hotline (206) 526-6667 or (800) 662-9825. No all-depth halibut fishing will be allowed on the additional dates unless the opening date has been announced on the NMFS hotline. Any poundage remaining unharvested in the spring all-depth subquota will be added to the summer all-depth sub-quota. Any poundage that is not needed to extend the inside 40-fm (73-m) fishery through to October 31 will be added to the summer all-depth season if it can be used, and any poundage remaining unharvested from the summer all-depth fishery will be added to the inside 40-fm (73-m) fishery subquota, if it can be used. The daily bag limit is one halibut per person, unless otherwise specified, with no size limit. During days open to all-depth halibut fishing, no groundfish may be retained, except sablefish when allowed by groundfish regulations, if halibut are on board the vessel. A yelloweye rockfish conservation area that is closed to recreational halibut fishing is defined by the following coordinates in the order listed:

(1) 44°37.46 N. lat.; 124°24.92 W. long.;

(2) 44°37.46 N. lat.; 124°23.63 W. long.;

(3) 44°28.71 N. lat.; 124°21.80 W. long.;

(4) 44°28.71 N. lat.; 124°24.10 W. long.;

(5) 44°31.42 N. lat.; 124°25.47 W. long.;

(6) and connecting back to 44°37.46 N. lat.; 124°24.92 W. long.

ODFW will sponsor a public workshop shortly after the IPHC annual meeting to develop recommendations to NMFS on the open dates for each season each year. The three seasons for this subarea are as follows:

A. The first season opens on May 1, only in waters inside the 40-fm (73-m) curve, and continues daily until the subquota (8 percent of the subarea quota) is taken, or until October 31, whichever is earlier. Poundage that is estimated to be above the amount needed to keep this season open through October 31 will be transferred to the summer all-depth fishery if it can be used. Any overage in the all-depth fisheries would not affect achievement of allocation set aside for the inside 40-fm (73-m) curve fishery.

B. The second season is an all-depth fishery with two potential openings. The first opening begins on the second Thursday in May (if the season is five more fishing days) or the second Friday in May (if the season is four or fewer fishing days) and is allocated 69 percent of the subarea quota. Fixed season dates for the first opening will be established preseason based on projected catch per day and number of days to achievement of the subquota for this season. The first opening will be structured for two days per week (Friday and Saturday) if the season is for four or fewer fishing days. The fishery will be structured for three days per week (Thursday through Saturday) if the season is for five or more fishing days. The fixed season dates will be established preseason and will occur in consecutive weeks starting the second Thursday in May (if the season is five or more fishing days) or second Friday in May (if the season is four or fewer fishing days), with exceptions to avoid adverse tidal conditions. If, following the “fixed” dates, quota for this season remains unharvested, a second opening will be held. The fishery will be open every other week on Thursday through Saturday except that week(s) could be skipped to avoid adverse tidal conditions. The potential open Thursdays through Saturdays will be identified preseason. The fishery will continue until there is insufficient quota for an additional day of fishing or July 31, whichever occurs first. Any remaining quota will be added to the summer quota. No inseason adjustments will be made to the established fixed season unless the combined Oregon all-depth spring and summer season total subquotas are estimated to be achieved.

C. The last season is an all-depth fishery that begins on the first Friday in August and is allocated 23 percent of the subarea quota. The fishery will be structured to be open every other week on Friday through Sunday except that week(s) could be skipped to avoid adverse tidal conditions. The potential open Fridays through Sundays will be identified preseason. If after the first scheduled open period, the remaining Cape Falcon to Humbug Mountain entire season quota (combined all-depth and inside 40-fm (73-m) quotas) is 60,000 lb (27.2 mt) or more, the fishery will re-open on every Friday through Sunday (versus every other weekend), if determined to be appropriate through joint consultation between IPHC, NMFS, and ODFW. Any excess quota projected to remain after the needs of the inside 40-fm (73-m) fishery are met would be transferred into the remaining all-depth quota. The inseason action will be announced by NMFS via an update to the recreational halibut hotline. If after the third scheduled open period, the remaining Cape Falcon to Humbug Mountain entire season quota (combined all-depth and inside 40-fm (73-m) quotas) is 30,000 lb (13.6 mt) or more, the fishery will re-open on every Friday through Sunday (versus every other weekend), if determined to be appropriate through joint consultation between IPHC, NMFS, and ODFW. Under this provision, after the third scheduled open period, the bag limit would be two fish per person, with no size limit. Any excess quota projected to remain after the needs of the inside 40-fm (73-m) fishery are met would be transferred into the remaining all-depth quota. The inseason action will be announced by NMFS via an update to the recreational halibut hotline. The fishery will continue until there is insufficient quota for an additional day of fishing or October 31, whichever occurs first. Any remaining quota will be transferred to the fishery inside the 40-fm (73-m) curve, if needed. If inseason it is determined that the combined all-depth and inside 40-fm (73-m) fisheries will not harvest the entire quota to the subarea, quota may be transferred inseason to another subarea south of Leadbetter Point, WA, by NMFS via an update to the recreational halibut hotline.

In section (f) of the Plan, Sport Fisheries, revise the second through fourth sentences in paragraph (1)(vi) to read as follows:

This area is defined as the area south of Humbug Mountain, OR (42°40.50′ N. lat.), including California waters. The structuring objective for this subarea is to provide anglers the opportunity to fish in a continuous, fixed season that is open from May 1 through October 31. The daily bag limit is one halibut per person, with no size limit.

Proposed 2005 Sport Fishery Management Measures

NMFS is proposing sport fishery management measures that are necessary to implement the Plan in 2005. The 2005 TAC for Area 2A will be determined by the IPHC at its annual meeting on January 18-21, 2005, in Victoria, B.C. Because the 2005 TAC has not yet been determined, these proposed sport fishery management measures use the IPHC's preliminary 2005 Area 2A TAC recommendation of 1,330,000 lb (603 mt), which is lower than the 2004 TAC of 1,480,000 lb (671 mt). The proposed 2005 sport fishery regulations based on the preliminary 2005 Area 2A TAC of 1,330,000 lb (603 mt) are as follows:

Washington Inside Waters Subarea

This subarea is defined as all U.S. waters east of the mouth of the Sekiu River, as defined by a line extending from 48°17.30′ N. lat., 124°23.70′ W. long. north to 48°24.10′ N. lat., 124°23.70′ W. long., including Puget Sound. This subarea would be allocated 64,800 lb (29 mt) at an Area 2A TAC of 1,330,000 lb (603 mt) in accordance with the Plan. According to the Plan, the structuring objective for this subarea is to provide a stable sport fishing opportunity and to maximize the season length. For the 2005 fishing season, the fishery in this subarea would be set to meet the structuring objectives described in the Plan. The final determination of the season dates would be based on the allowable harvest level and projected 2005 catch rates after the 2005 TAC is set by the IPHC. The daily bag limit would be one halibut of any size per day, per person.

Washington North Coast Subarea

This subarea is defined as all U.S. waters west of the mouth of the Sekiu River and north of the Queets River (47°31.70′ N. lat.). This subarea would be allocated 115,437 lb (52 mt) at an Area 2A TAC of 1,330,000 lb (603 mt) in accordance with the Plan. According to the Plan, the management objective for this subarea is to provide a quality recreational fishing opportunity during May and the latter part of June. The fishery opens on the first Tuesday between May 9 and May 15 (May 10 in 2005), and continues 5 days per week (Tuesday through Saturday) until 72 percent of the quota for the subarea has been taken, 83,115 lb (38 mt), and the season is closed by the IPHC. The fishery will re-open during the third week in June and continue Tuesday through Saturday until the overall quota for the subarea is taken and the season is closed by the IPHC. The daily bag limit would be one halibut of any size per day per person. A portion of this subarea would be closed to sport fishing for halibut as a yelloweye rockfish conservation area bounded by the following coordinates:

(1) 48°18.00′ N. lat.; 125°18.00′ W. long.;

(2) 48°18.00′ N. lat.; 124°59.00′ W. long.;

(3) 48°11.00′ N. lat.; 124°59.00′ W. long.;

(4) 48°11.00′ N. lat.; 125°11.00′ W. long.;

(5) 48°04.00′ N. lat.; 125°11.00′ W. long.;

(6) 48°04.00′ N. lat.; 124°59.00′ W. long.;

(7) 48°00.00′ N. lat.; 124°59.00′ W. long.;

(8) 48°00.00′ N. lat.; 125°18.00′ W. long.;

(9) and connecting back to 48°18.00′ N. lat.; 125°18.00′ W. long.

Washington South Coast Subarea

This subarea is defined as waters south of the Queets River (47°31.70′ N. lat.) and north of Leadbetter Point (46°38.17′ N. lat.). This subarea would be allocated 50,146 lb (23 mt)at an Area 2A TAC of 1,330,000 lb (603 mt) in accordance with the Plan. According to the Plan, the structuring objective for this subarea is to maximize the season length, while maintaining a quality fishing experience. The fishery would open on May 1 and continue five days per week (Sunday through Thursday) until September 30, or until the quota is achieved, and the fishery is closed by the IPHC, whichever occurs first. The fishery would be open Sunday through Thursday in all areas, except where prohibited, and the fishery will be open seven days per week in the area from the Queets River, WA south to 47°00.00′ N. lat. and east of 124°40.00′ W. long. Beginning July 1, the halibut fishery opens seven days per week in the offshore and nearshore fisheries until September 30, or until the quota is achieved and the fishery is closed by the IPHC, whichever occurs first. New for 2005, if there is insufficient quota to reopen the entire south coast subarea for another fishing day, then any remaining quota may be transferred to the nearshore area from the Queets River, WA south to 47°00.00′ N. lat. and east of 124°40.00′ W. long. to accommodate incidental catch in that fishery. The daily bag limit would be one halibut of any size per day, per person.

Columbia River Subarea

This subarea is defined as waters south of Leadbetter Point, WA (46°38.17′ N. lat.) and north of Cape Falcon, OR (45°46.00′ N. lat.). This subarea would be allocated 13,747 lb (6 mt) at an Area 2A TAC of 1,330,000 lb (603 mt) in accordance with the Plan. New for 2005, language will be added to the Plan to increase the number of pounds contributed to this subarea from Oregon/California to match the number contributed by Washington. To reach this matching number of pounds, Oregon will contribute pounds from its Central Coast subarea, as needed, in addition to the 2 percent from the Oregon/California sport allocation. If there is insufficient quota for another fishing day after closure of the subarea, any remaining state's quota would be transferred to that state. The fishery would open on May 1 and continue 7 days per week until the subarea quota is reached and the fishery is closed by the IPHC or September 30, whichever occurs first. Also new for 2005, the minimum length requirement for halibut in this subarea will be removed. Therefore, the daily bag limit would be one halibut of any size per day, per person.

In addition, as explained in the section of this proposed rule's preamble on “Pacific Council recommended changes to the Plan and domestic fishing regulations,” there are two options being considered for groundfish retention in this subarea. Under Option 1 no groundfish may be retained, except sablefish when allowed by groundfish regulations, by anglers landing in Oregon if halibut are on board the vessel. Under Option 2 no groundfish may be retained, except sablefish when allowed by groundfish regulations, if halibut are on board the vessel.

Oregon Central Coast Subarea

This subarea extends from Cape Falcon (45°46.00′ N. lat.) to Humbug Mountain, OR (42°40.50′ N. lat.). This subarea would be allocated 251,264 lb (114 mt) at an Area 2A TAC of 1,330,000 lb (603 mt) in accordance with the Plan. As mentioned in the Columbia River subarea, the Oregon Central Coast fishery will contribute quota pounds to the Columbia River subarea to allow the Oregon/California contribution to match the Washington contribution. Thus, for 2005, the Central Coast allocation will be 95 percent of the Oregon/California sport allocation minus the amount of pounds needed to contribute to the Oregon portion of the Columbia River subarea quota. The structuring objectives for this subarea are to provide two periods of fishing opportunity in spring (May-June) and in summer (August-October) in productive deeper water areas along the coast, principally for charterboat and larger private boat anglers, and to provide a period of fishing opportunity during the summer in nearshore waters for small boat anglers.

The central coast restricted depth fishery, or “inside 40-fm (73-m)” fishery, which occurs inside of a boundary line approximating the 40-fm (73-m) depth contour, would be allocated 20,101 lb (9 mt), starting May 1 through October 31 (seven days per week) or until the allocated subquota is attained, whichever occurs first. New for 2005, all groundfish, except sablefish when allowed by groundfish regulation, may not be retained in the inside 40-fm (73-m) fishery if halibut are onboard the vessel during days open to all-depth fishing. Proposed coordinates for the boundary line approximating the 40-fm (73-m) depth contour between 45°46.00′ N. lat. and 42°40.50′ N. lat. are defined by straight lines connecting all of the following points in the order stated:

(1) 45°46.00′ N. lat., 124°04.49′ W. long.;

(2) 45°44.34′ N. lat., 124°05.09′ W. long.;

(3) 45°40.64′ N. lat., 124°04.90′ W. long.;

(4) 45°33.00′ N. lat., 124°04.46′ W. long.;

(5) 45°32.27′ N. lat., 124°04.74′ W. long.;

(6) 45°29.26′ N. lat., 124°04.22′ W. long.;

(7) 45°20.25′ N. lat., 124°04.67′ W. long.;

(8) 45°19.99′ N. lat., 124°04.62′ W. long.;

(9) 45°17.50′ N. lat., 124°04.91′ W. long.;

(10) 45°11.29′ N. lat., 124°05.19′ W. long.;

(11) 45°05.79′ N. lat., 124°05.40′ W. long.;

(12) 45°05.07′ N. lat., 124°05.93′ W. long.;

(13) 45°03.83′ N. lat., 124°06.47′ W. long.;

(14) 45°01.70′ N. lat., 124°06.53′ W. long.;

(15) 44°58.75′ N. lat., 124°07.14′ W. long.;

(16) 44°51.28′ N. lat., 124°10.21′ W. long.;

(17) 44°49.49′ N. lat., 124°10.89′ W. long.;

(18) 44°44.96′ N. lat., 124°14.39′ W. long.;

(19) 44°43.44′ N. lat., 124°14.78′ W. long.;

(20) 44°42.27′ N. lat., 124°13.81′ W. long.;

(21) 44°41.68′ N. lat., 124°15.38′ W. long.;

(22) 44°34.87′ N. lat., 124°15.80′ W. long.;

(23) 44°33.74′ N. lat., 124°14.43′ W. long.;

(24) 44°27.66′ N. lat., 124°16.99′ W. long.;

(25) 44°19.13′ N. lat., 124°19.22′ W. long.;

(26) 44°15.35′ N. lat., 124°17.37′ W. long.;

(27) 44°14.38′ N. lat., 124°17.78′ W. long.;

(28) 44°12.80′ N. lat., 124°17.18′ W. long.;

(29) 44°09.23′ N. lat., 124°15.96′ W. long.;

(30) 44°08.38′ N. lat., 124°16.80′ W. long.;

(31) 44°08.30′ N. lat., 124°16.75′ W. long.;

(32) 44°01.18′ N. lat., 124°15.42′ W. long.;

(33) 43°51.60′ N. lat., 124°14.68′ W. long.;

(34) 43°42.66′ N. lat., 124°15.46′ W. long.;

(35) 43°40.49′ N. lat., 124°15.74′ W. long.;

(36) 43°38.77′ N. lat., 124°15.64′ W. long.;

(37) 43°34.52′ N. lat., 124°16.73′ W. long.;

(38) 43°28.82′ N. lat., 124°19.52′ W. long.;

(39) 43°23.91′ N. lat., 124°24.28′ W. long.;

(40) 43°20.83′ N. lat., 124°26.63′ W. long.;

(41) 43°17.96′ N. lat., 124°28.81′ W. long.;

(42) 43°16.75′ N. lat., 124°28.42′ W. long.;

(43) 43°13.98′ N. lat., 124°31.99′ W. long.;

(44) 43°13.71′ N. lat., 124°33.25′ W. long.;

(45) 43°12.26′ N. lat., 124°34.16′ W. long.;

(46) 43°10.96′ N. lat., 124°32.34′ W. long.;

(47) 43°05.65′ N. lat., 124°31.52′ W. long.;

(48) 42°59.66′ N. lat., 124°32.58′ W. long.;

(49) 42°54.97′ N. lat., 124°36.99′ W. long.;

(50) 42°53.81′ N. lat., 124°38.58′ W. long.;

(51) 42°50.00′ N. lat., 124°39.68′ W. long.;

(52) 42°49.14′ N. lat., 124°39.92′ W. long.;

(53) 42°46.47′ N. lat., 124°38.65′ W. long.;

(54) 42°45.60′ N. lat., 124°39.04′ W. long.;

(55) 42°44.79′ N. lat., 124°37.96′ W. long.;

(56) 42°45.00′ N. lat., 124°36.39′ W. long.;

(57) 42°44.14′ N. lat., 124°35.16′ W. long.;

(58) 42°42.15′ N. lat., 124°32.82′ W. long.;

(59) 42°40.50′ N. lat., 124°31.98′ W. long.; and

(60) 42°38.82′ N. lat., 124°31.09′ W. long.

If NMFS changes this boundary for recreational groundfish fishing by an inseason action to the Pacific Coast groundfish regulations during the year to protect overfished groundfish species, NMFS will also publish a separate inseason action in the Federal Register to change nearshore recreational halibut regulations for this subarea to mirror the groundfish closure. Language will also be added to the sport management measures for 2005 such that, in times when the all-depth halibut fishery is closed and halibut fishing is permitted only inshore of a boundary line approximating the 40-fm (73-m) depth contour, halibut possession and retention by vessels operating offshore of 40-fm (73-m) would be prohibited.

The spring all-depth season would be allocated 173,372 lb (79 mt). Based on an observed catch per day trend in this fishery in recent years, an estimated 10,000 - 30,000 lb (5 - 14 mt) would be caught per day in 2005, resulting in a 5 to 17-day fixed season. In accordance with the Plan, the season would open on Thursday, May 12 and continue on Thursdays through Saturdays through the fixed dates, with exceptions to avoid adverse tidal conditions. The fixed dates will be set in spring 2005 after the IPHC sets the final Area 2A TAC and after ODFW holds public meetings. After the fixed date season, potential additional fishing days for remaining quota in 2005 are structured differently than in previous years. For 2005, if additional quota remains after the fixed season, a second opening would be held for the spring fishery. The second opening would be on every other week on Thursday through Saturday except that week(s) could be skipped to avoid adverse tidal conditions. For 2005, the weeks to be skipped due to adverse tidal conditions in either the first or second spring opener may include May 26 - 28, June 23 - 25 and July 21 - 23. Final determination of the week(s) that may be skipped due to adverse tidal conditions will occur after the 2005 TAC has been set by the IPHC and after ODFW's late January/early February public meeting. If a decision is made inseason by NMFS to allow fishing in the potential spring season, notice of an opening will be announced on the NMFS hotline, (206)526-6667 or (800)662-9825. No halibut fishing will be allowed on the reopening dates unless the date is announced on the NMFS hotline. The second spring season would continue until there is insufficient quota for an additional fishing day or until July 31, whichever occurs first. Also new for 2005, all groundfish, except sablefish when allowed by groundfish regulation, may not be retained if halibut are onboard the vessel during days open to all-depth fishing. In addition, a new yelloweye rockfish conservation area off Oregon will be closed to recreational halibut fishing and is defined by the following coordinates:

(1) 44°37.46 N. lat.; 124°24.92 W. long.;

(2) 44°37.46 N. lat.; 124°23.63 W. long.;

(3) 44°28.71 N. lat.; 124°21.80 W. long.;

(4) 44°28.71 N. lat.; 124°24.10 W. long.;

(5) 44°31.42 N. lat.; 124°25.47 W. long.;

(6) and connecting back to 44°37.46 N. lat.; 124°24.92 W. long.

The summer all-depth fishery would be allocated 57,791 lb (26 mt), and would open on Friday, August 5. New for 2005, this fishery's season will be restructured from being open every other week on Friday and Saturday to every other week on Friday through Sunday, except that week(s) may be skipped for adverse tidal conditions. For 2005, no adverse tidal conditions are predicted to occur during the August through October period. Final determination of the week(s) that may be skipped due to adverse tidal conditions will occur after the 2005 TAC has been set by the IPHC and after ODFW's late January/early February public meeting. Also new for 2005, additional fishing days may be opened if a certain amount of quota remains after the first and third scheduled open periods for the summer all-depth fishery in this subarea. If after the first opener, greater than or equal to 60,000 lbs (27.2 mt) remains in the combined all-depth and inside 40-fm (73-m) quota, the fishery may re-open on every Friday through Sunday (versus every other Friday through Sunday). If after the third opener, greater than or equal to 30,000 lbs (13.6 mt) remains in the combined all-depth and inside 40-fm (73-m) quota, the fishery may re-open on every Friday through Sunday and the bag limit would be two fish of any size per person, per day. NMFS will announce on the NMFS hotline whether the summer all-depth fishery will be open on such additional fishing days and what days will comprise such opening. Any inseason adjustments will also be announced on the NMFS hotline. No halibut fishing will be allowed in the summer all-depth fishery unless the dates are announced on the NMFS hotline. The summer all-depth fishery would continue until there is insufficient quota for an additional fishing day and the fishery is closed by the IPHC or until October 31, whichever occurs first. Any remaining quota would be added to the quota for the fishery inside 40-fm (73-m), if needed. Also new for 2005, language will be added to the Plan to allow for any remaining quota that the all-depth and inside 40-fm (73-m) fisheries are not projected to attain in this subarea to be transferred inseason to another subarea south of Leadbetter Point, WA, via an update to the halibut hotline. For 2005, all groundfish, except sablefish when allowed by groundfish regulation, may not be retained if halibut are onboard the vessel during days open to all-depth fishing. In addition, a new yelloweye rockfish conservation area off Oregon will be closed to recreational halibut fishing and is defined by the following coordinates:

(1) 44°37.46 N. lat.; 124°24.92 W. long.;

(2) 44°37.46 N. lat.; 124°23.63 W. long.;

(3) 44°28.71 N. lat.; 124° 21.80 W. long.;

(4) 44° 28.71 N. lat.; 124°24.10 W. long.;

(5) 44°31.42 N. lat.; 124°25.47 W. long.;

(6) and connecting back to 44°37.46 N. lat.; 124°24.92 W. long.

The final determination of the season dates will be based on the allowable harvest level, projected catch rates, and recommendations developed in a public workshop sponsored by ODFW in late January/early February after the 2005 TAC has been set by the IPHC. Also new for 2005, the minimum length requirement for halibut in this subarea will be removed. Therefore, the daily bag limit would be one halibut, unless otherwise specified, of any size per day, per person.

Humbug Mountain, OR through California Subarea

This area is defined as the area south of Humbug Mountain, OR (42°40.50′ N. lat.), including California waters. This subarea would be allocated 7,984 lb (3.6 mt) at an Area 2A TAC of 1,330,000 lb (603 mt) in accordance with the Plan. The proposed 2005 sport season for this subarea would be the same as last year, with a May 1 opening and continuing seven days per week, until October 31. New for 2005, the minimum length requirement for halibut in this subarea will be removed. Therefore, the daily bag limit would be one halibut of any size per day, per person.

Flexible Inseason Management Provisions in Area 2A

The flexible inseason management provisions in Area 2A have not changed since 2004, but are republished here to provide opportunity for public comment. Section 25 of the annual halibut management measures published in the Federal Register and section (f)(5) of the Plan will read as follows:

(1) The Regional Administrator, NMFS Northwest Region, after consultation with the Chairman of the Pacific Fishery Management Council, the Commission Executive Director, and the Fisheries Director(s) of the affected state(s), or their designees, is authorized to modify regulations during the season after making the following determinations.

(a) The action is necessary to allow allocation objectives to be met.

(b) The action will not result in exceeding the catch limit for the area.

(c) If any of the sport fishery subareas north of Cape Falcon, OR are not projected to utilize their respective quotas by September 30, NMFS may take inseason action to transfer any projected unused quota to another Washington sport subarea.

(d) If any of the sport fishery subareas south of Leadbetter Point, WA are not projected to utilize their respective quotas by their season ending dates, NMFS may take inseason action to transfer any projected unused quota to another Oregon sport subarea.

(2) Flexible inseason management provisions include, but are not limited to, the following:

(a) Modification of sport fishing periods;

(b) Modification of sport fishing bag limits;

(c) Modification of sport fishing size limits;

(d) Modification of sport fishing days per calendar week; and

(e) Modification of subarea quotas north of Cape Falcon, OR.

(3) Notice procedures.

(a) Actions taken under this section will be published in the Federal Register.

(b) Actual notice of inseason management actions will be provided by a telephone hotline administered by the Northwest Region, NMFS, at 206-526-6667 or 800-662-9825 (May through October) and by U.S. Coast Guard broadcasts. These broadcasts are announced on Channel 16 VHF-FM and 2182 kHz at frequent intervals. The announcements designate the channel or frequency over which the notice to mariners will be immediately broadcast. Since provisions of these regulations may be altered by inseason actions, sport fishers should monitor either the telephone hotline or U.S. Coast Guard broadcasts for current information for the area in which they are fishing.

(4) Effective dates.

(a) Any action issued under this section is effective on the date specified in the publication or at the time that the action is filed for public inspection with the Office of the Federal Register, whichever is later.

(b) If time allows, NMFS will invite public comment prior to the effective date of any inseason action filed with the Federal Register. If the Regional Administrator determines, for good cause, that an inseason action must be filed without affording a prior opportunity for public comment, public comments will be received for a period of 15 days after publication of the action in the Federal Register.

(c) Any inseason action issued under this section will remain in effect until the stated expiration date or until rescinded, modified, or superseded. However, no inseason action has any effect beyond the end of the calendar year in which it is issued.

(5) Availability of data. The Regional Administrator will compile, in aggregate form, all data and other information relevant to the action being taken and will make them available for public review during normal office hours at the Northwest Regional Office, NMFS, Sustainable Fisheries Division, 7600 Sand Point Way NE, Seattle, WA.

Fishery Election in Area 2A

The fishery election process in Area 2A has not changed since 2004, except to update the reference to the sablefish regulations at 50 CFR 660.372 in paragraph (1)(b). The management measures are republished here to provide opportunity for public comment. Section 26 of the annual halibut management measures published in the Federal Register will continue to read as follows:

(1) A vessel that fishes in Area 2A may participate in only one of the following three fisheries in Area 2A:

(a) The sport fishery under Section 24;

(b) The commercial directed fishery for halibut during the fishing period(s) established in Section 8 and/or the incidental retention of halibut during the primary sablefish fishery described at 50 CFR 660.372; or

(c) The incidental catch fishery during the salmon troll fishery as authorized in Section 8.

(2) No person shall fish for halibut in the sport fishery in Area 2A under Section 24 from a vessel that has been used during the same calendar year for commercial halibut fishing in Area 2A or that has been issued a permit for the same calendar year for the commercial halibut fishery in Area 2A.

(3) No person shall fish for halibut in the directed halibut fishery during the fishing periods established in Section 8 and/or retain halibut incidentally taken in the primary sablefish fishery in Area 2A from a vessel that has been used during the same calendar year for the incidental catch fishery during the salmon troll fishery as authorized in Section 8.

(4) No person shall fish for halibut in the directed commercial halibut fishery and/or retain halibut incidentally taken in the primary sablefish fishery in Area 2A from a vessel that, during the same calendar year, has been used in the sport halibut fishery in Area 2A or that is licensed for the sport charter halibut fishery in Area 2A.

(5) No person shall retain halibut in the salmon troll fishery in Area 2A as authorized under Section 8 taken on a vessel that, during the same calendar year, has been used in the sport halibut fishery in Area 2A, or that is licensed for the sport charter halibut fishery in Area 2A.

(6) No person shall retain halibut in the salmon troll fishery in Area 2A as authorized under Section 8 taken on a vessel that, during the same calendar year, has been used in the directed commercial fishery during the fishing periods established in Section 8 and/or retain halibut incidentally taken in the primary sablefish fishery for Area 2A or that is licensed to participate in these commercial fisheries during the fishing periods established in Section 8 in Area 2A.

Area 2A Non-Treaty Commercial Fishery Closed Area

Similar to 2003 and 2004, large closed areas will apply to commercial vessels operating in the directed non-treaty commercial fishery for halibut in Area 2A. Some coordinates for the closed areas have changed slightly from 2004. For 2005, section 27 of the annual halibut management measures will read as follows:

Non-treaty commercial vessels operating in the directed commercial fishery for halibut in Area 2A are required to fish outside of a closed area, known as the Rockfish Conservation Area (RCA), that extends along the coast from the U.S./Canada border south to 40°10′ N. lat. Coordinates for the specific closed area boundaries are as follows:

(1) Between the U.S./Canada border and 46°16′ N. lat., the eastern boundary of the RCA is the shoreline.

(2) Between 46°16′ N. lat. and 40°10′ N. lat., the RCA is defined along an eastern, inshore boundary approximating 30-fm (55-m). Between 46°16′ N. lat. and 40°10′ N. lat., the eastern boundary for the RCA is defined by straight lines connecting all of the following points in the order stated:

(1) 46°16.00′ N. lat., 124°13.05′ W. long.;

(2) 46°07.00′ N. lat., 124°07.01′ W. long.;

(3) 45°55.95′ N. lat., 124°02.23′ W. long.;

(4) 45°54.53′ N. lat., 124°02.57′ W. long.;

(5) 45°50.65′ N. lat., 124°01.62′ W. long.;

(6) 45°48.20′ N. lat., 124°02.16′ W. long.;

(7) 45°46.00′ N. lat., 124°01.86′ W. long.;

(8) 45°43.47′ N. lat., 124°01.28′ W. long.;

(9) 45°40.48′ N. lat., 124°01.03′ W. long.;

(10) 45°39.04′ N. lat., 124°01.68′ W. long.;

(11) 45°35.48′ N. lat., 124°01.89′ W. long.;

(12) 45°29.81′ N. lat., 124°02.45′ W. long.;

(13) 45°27.96′ N. lat., 124°01.89′ W. long.;

(14) 45°27.22′ N. lat., 124°02.67′ W. long.;

(15) 45°24.20′ N. lat., 124°02.94′ W. long.;

(16) 45°20.60′ N. lat., 124°01.74′ W. long.;

(17) 45°20.25′ N. lat., 124°01.85′ W. long.;

(18) 45°16.44′ N. lat., 124°03.22′ W. long.;

(19) 45°13.63′ N. lat., 124°02.70′ W. long.;

(20) 45°11.04′ N. lat., 124°03.59′ W. long.;

(21) 45°08.55′ N. lat., 124°03.47′ W. long.;

(22) 45°02.82′ N. lat., 124°04.64′ W. long.;

(23) 45°03.38′ N. lat., 124°04.79′ W. long.;

(24) 44°58.06′ N. lat., 124°05.03′ W. long.;

(25) 44°53.97′ N. lat., 124°06.92′ W. long.;

(26) 44°48.89′ N. lat., 124°07.04′ W. long.;

(27) 44°46.94′ N. lat., 124°08.25′ W. long.;

(28) 44°42.72′ N. lat., 124°08.98′ W. long.;

(29) 44°38.16′ N. lat., 124°11.48′ W. long.;

(30) 44°33.38′ N. lat., 124°11.54′ W. long.;

(31) 44°28.51′ N. lat., 124°12.03′ W. long.;

(32) 44°27.65′ N. lat., 124°12.56′ W. long.;

(33) 44°19.67′ N. lat., 124°12.37′ W. long.;

(34) 44°10.79′ N. lat., 124°12.22′ W. long.;

(35) 44°09.22′ N. lat., 124°12.28′ W. long.;

(36) 44°08.30′ N. lat., 124°12.30′ W. long.;

(37) 44°00.22′ N. lat., 124°12.80′ W. long.;

(38) 43°51.56′ N. lat., 124°13.17′ W. long.;

(39) 43°44.26′ N. lat., 124°14.50′ W. long.;

(40) 43°33.82′ N. lat., 124°16.28′ W. long.;

(41) 43°28.66′ N. lat., 124°18.72′ W. long.;

(42) 43°23.12′ N. lat., 124°24.04′ W. long.;

(43) 43°20.83′ N. lat., 124°25.67′ W. long.;

(44) 43°20.49′ N. lat., 124°25.90′ W. long.;

(45) 43°16.41′ N. lat., 124°27.52′ W. long.;

(46) 43°14.23′ N. lat., 124°29.28′ W. long.;

(47) 43°14.03′ N. lat., 124°28.31′ W. long.;

(48) 43°11.92′ N. lat., 124°28.26′ W. long.;

(49) 43°11.02′ N. lat., 124°29.11′ W. long.;

(50) 43°10.13′ N. lat., 124°29.15′ W. long.;

(51) 43°09.27′ N. lat., 124°31.03′ W. long.;

(52) 43°07.73′ N. lat., 124°30.92′ W. long.;

(53) 43°05.93′ N. lat., 124°29.64′ W. long.;

(54) 43°01.59′ N. lat., 124°30.64′ W. long.;

(55) 42°59.73′ N. lat., 124°31.16′ W. long.;

(56) 42°53.75′ N. lat., 124°36.09′ W. long.;

(57) 42°50.00′ N. lat., 124°38.39′ W. long.;

(58) 42°49.37′ N. lat., 124°38.81′ W. long.;

(59) 42°46.42′ N. lat., 124°37.69′ W. long.;

(60) 42°46.07′ N. lat., 124°38.56′ W. long.;

(61) 42°45.29′ N. lat., 124°37.95′ W. long.;

(62) 42°45.61′ N. lat., 124°36.87′ W. long.;

(63) 42°44.28′ N. lat., 124°33.64′ W. long.;

(64) 42°42.75′ N. lat., 124°31.84′ W. long.;

(65) 42°40.50′ N. lat., 124°29.67′ W. long.;

(66) 42°40.04′ N. lat., 124°29.19′ W. long.;

(67) 42°38.09′ N. lat., 124°28.39′ W. long.;

(68) 42°36.72′ N. lat., 124°27.54′ W. long.;

(69) 42°36.56′ N. lat., 124°28.40′ W. long.;

(70) 42°35.76′ N. lat., 124°28.79′ W. long.;

(71) 42°34.03′ N. lat., 124°29.98′ W. long.;

(72) 42°34.19′ N. lat., 124°30.58′ W. long.;

(73) 42°31.27′ N. lat., 124°32.24′ W. long.;

(74) 42°27.07′ N. lat., 124°32.53′ W. long.;

(75) 42°24.21′ N. lat., 124°31.23′ W. long.;

(76) 42°20.47′ N. lat., 124°28.87′ W. long.;

(77) 42°14.60′ N. lat., 124°26.80′ W. long.;

(78) 42°13.67′ N. lat., 124°26.25′ W. long.;

(79) 42°10.90′ N. lat., 124°24.57′ W. long.;

(80) 42°07.04′ N. lat., 124°23.35′ W. long.;

(81) 42°02.16′ N. lat., 124°22.59′ W. long.;

(82) 42°00.00′ N. lat., 124°21.81′ W. long.;

(83) 41°55.75′ N. lat., 124°20.72′ W. long.;

(84) 41°50.93′ N. lat., 124°23.76′ W. long.;

(85) 41°42.53′ N. lat., 124°16.47′ W. long.;

(86) 41°37.20′ N. lat., 124°17.05′ W. long.;

(87) 41°24.58′ N. lat., 124°10.51′ W. long.;

(88) 41°20.73′ N. lat., 124°11.73′ W. long.;

(89) 41°17.59′ N. lat., 124°10.66′ W. long.;

(90) 41°04.54′ N. lat., 124°14.47′ W. long.;

(91) 40°54.26′ N. lat., 124°13.90′ W. long.;

(92) 40°40.31′ N. lat., 124°26.24′ W. long.;

(93) 40°34.00′ N. lat., 124°27.39′ W. long.;

(94) 40°30.00′ N. lat., 124°31.32′ W. long.;

(95) 40°28.89′ N. lat., 124°32.43′ W. long.;

(96) 40°24.77′ N. lat., 124°29.51′ W. long.;

(97) 40°22.47′ N. lat., 124°24.12′ W. long.;

(98) 40°19.73′ N. lat., 124°23.59′ W. long.;

(99) 40°18.64′ N. lat., 124°21.89′ W. long.;

(100) 40°17.67′ N. lat., 124°23.07′ W. long.;

(101) 40°15.58′ N. lat., 124°23.61′ W. long.;

(102) 40°13.42′ N. lat., 124°22.94′ W. long.; and

(103) 40°10.00′ N. lat., 124°16.65′ W. long.

(3) Between the U.S./Canada border and 40°10′ N. lat., the RCA is defined along a western, offshore boundary approximating 100-fm (183-m). North of 40°10′ N. lat., the western boundary for the RCA is defined by straight lines connecting all of the following points in the order stated:

(1) 48°15.00′ N. lat., 125°41.00′ W. long.;

(2) 48°14.00′ N. lat., 125°36.00′ W. long.;

(3) 48°09.50′ N. lat., 125°40.50′ W. long.;

(4) 48°08.00′ N. lat., 125°38.00′ W. long.;

(5) 48°05.00′ N. lat., 125°37.25′ W. long.;

(6) 48°02.60′ N. lat., 125°34.70′ W. long.;

(7) 47°59.00′ N. lat., 125°34.00′ W. long.;

(8) 47°57.26′ N. lat., 125°29.82′ W. long.;

(9) 47°59.87′ N. lat., 125°25.81′ W. long.;

(10) 48°01.80′ N. lat., 125°24.53′ W. long.;

(11) 48°02.08′ N. lat., 125°22.98′ W. long.;

(12) 48°02.97′ N. lat., 125°22.89′ W. long.;

(13) 48°04.47′ N. lat., 125°21.75′ W. long.;

(14) 48°06.11′ N. lat., 125°19.33′ W. long.;

(15) 48°07.95′ N. lat., 125°18.55′ W. long.;

(16) 48°09.00′ N. lat., 125°18.00′ W. long.;

(17) 48°11.31′ N. lat., 125°17.55′ W. long.;

(18) 48°14.60′ N. lat., 125°13.46′ W. long.;

(19) 48°16.67′ N. lat., 125°14.34′ W. long.;

(20) 48°18.73′ N. lat., 125°14.41′ W. long.;

(21) 48°19.67′ N. lat., 125°13.70′ W. long.;

(22) 48°19.70′ N. lat., 125°11.13′ W. long.;

(23) 48°22.95′ N. lat., 125°10.79′ W. long.;

(24) 48°21.61′ N. lat., 125°02.54′ W. long.;

(25) 48°23.00′ N. lat., 124°49.34′ W. long.;

(26) 48°17.00′ N. lat., 124°56.50′ W. long.;

(27) 48°06.00′ N. lat., 125°00.00′ W. long.;

(28) 48°04.62′ N. lat., 125°01.73′ W. long.;

(29) 48°04.84′ N. lat., 125°04.03′ W. long.;

(30) 48°06.41′ N. lat., 125°06.51′ W. long.;

(31) 48°06.00′ N. lat., 125°08.00′ W. long.;

(32) 48°07.08′ N. lat., 125°09.34′ W. long.;

(33) 48°07.28′ N. lat., 125°11.14′ W. long.;

(34) 48°03.45′ N. lat., 125°16.66′ W. long.;

(35) 47°59.50′ N. lat., 125°18.88′ W. long.;

(36) 47°58.68′ N. lat., 125°16.19′ W. long.;

(37) 47°56.62′ N. lat., 125°13.50′ W. long.;

(38) 47°53.71′ N. lat., 125°11.96′ W. long.;

(39) 47°51.70′ N. lat., 125°09.38′ W. long.;

(40) 47°49.95′ N. lat., 125°06.07′ W. long.;

(41) 47°49.00′ N. lat., 125°03.00′ W. long.;

(42) 47°46.95′ N. lat., 125°04.00′ W. long.;

(43) 47°46.58′ N. lat., 125°03.15′ W. long.;

(44) 47°44.07′ N. lat., 125°04.28′ W. long.;

(45) 47°43.32′ N. lat., 125°04.41′ W. long.;

(46) 47°40.95′ N. lat., 125°04.14′ W. long.;

(47) 47°39.58′ N. lat., 125°04.97′ W. long.;

(48) 47°36.23′ N. lat., 125°02.77′ W. long.;

(49) 47°34.28′ N. lat., 124°58.66′ W. long.;

(50) 47°32.17′ N. lat., 124°57.77′ W. long.;

(51) 47°30.27′ N. lat., 124°56.16′ W. long.;

(52) 47°30.60′ N. lat., 124°54.80′ W. long.;

(53) 47°29.26′ N. lat., 124°52.21′ W. long.;

(54) 47°28.21′ N. lat., 124°50.65′ W. long.;

(55) 47°27.38′ N. lat., 124°49.34′ W. long.;

(56) 47°25.61′ N. lat., 124°48.26′ W. long.;

(57) 47°23.54′ N. lat., 124°46.42′ W. long.;

(58) 47°20.64′ N. lat., 124°45.91′ W. long.;

(59) 47°17.99′ N. lat., 124°45.59′ W. long.;

(60) 47°18.20′ N. lat., 124°49.12′ W. long.;

(61) 47°15.01′ N. lat., 124°51.09′ W. long.;

(62) 47°12.61′ N. lat., 124°54.89′ W. long.;

(63) 47°08.22′ N. lat., 124°56.53′ W. long.;

(64) 47°08.50′ N. lat., 124°57.74′ W. long.;

(65) 47°01.92′ N. lat., 124°54.95′ W. long.;

(66) 47°01.14′ N. lat., 124°59.35′ W. long.;

(67) 46°58.48′ N. lat., 124°57.81′ W. long.;

(68) 46°56.79′ N. lat., 124°56.03′ W. long.;

(69) 46°58.01′ N. lat., 124°55.09′ W. long.;

(70) 46°55.07′ N. lat., 124°54.14′ W. long.;

(71) 46°59.60′ N. lat., 124°49.79′ W. long.;

(72) 46°58.72′ N. lat., 124°48.78′ W. long.;

(73) 46°54.45′ N. lat., 124°48.36′ W. long.;

(74) 46°53.99′ N. lat., 124°49.95′ W. long.;

(75) 46°54.38′ N. lat., 124°52.73′ W. long.;

(76) 46°52.38′ N. lat., 124°52.02′ W. long.;

(77) 46°48.93′ N. lat., 124°49.17′ W. long.;

(78) 46°41.50′ N. lat., 124°43.00′ W. long.;

(79) 46°34.50′ N. lat., 124°28.50′ W. long.;

(80) 46°29.00′ N. lat., 124°30.00′ W. long.;

(81) 46°20.00′ N. lat., 124°36.50′ W. long.;

(82) 46°18.00′ N. lat., 124°38.00′ W. long.;

(83) 46°17.52′ N. lat., 124°35.35′ W. long.;

(84) 46°17.00′ N. lat., 124°22.50′ W. long.;

(85) 46°16.00′ N. lat., 124°20.62′ W. long.;

(86) 46°13.52′ N. lat., 124°25.49′ W. long.;

(87) 46°12.17′ N. lat., 124°30.75′ W. long.;

(88) 46°10.63′ N. lat., 124°37.95′ W. long.;

(89) 46°09.29′ N. lat., 124°39.01′ W. long.;

(90) 46°02.40′ N. lat., 124°40.37′ W. long.;

(91) 45°56.45′ N. lat., 124°38.00′ W. long.;

(92) 45°51.92′ N. lat., 124°38.49′ W. long.;

(93) 45°47.19′ N. lat., 124°35.58′ W. long.;

(94) 45°46.41′ N. lat., 124°32.36′ W. long.;

(95) 45°46.00′ N. lat., 124°32.10′ W. long.;

(96) 45°41.75′ N. lat., 124°28.12′ W. long.;

(97) 45°36.96′ N. lat., 124°24.48′ W. long.;

(98) 45°31.84′ N. lat., 124°22.04′ W. long.;

(99) 45°27.10′ N. lat., 124°21.74′ W. long.;

(100) 45°20.25′ N. lat., 124°18.54′ W. long.;

(101) 45°18.14′ N. lat., 124°17.59′ W. long.;

(102) 45°11.08′ N. lat., 124°16.97′ W. long.;

(103) 45°04.38′ N. lat., 124°18.36′ W. long.;

(104) 45°03.83′ N. lat., 124°18.60′ W. long.;

(105) 44°58.05′ N. lat., 124°21.58′ W. long.;

(106) 44°47.67′ N. lat., 124°31.41′ W. long.;

(107) 44°44.55′ N. lat., 124°33.58′ W. long.;

(108) 44°39.88′ N. lat., 124°35.01′ W. long.;

(109) 44°32.90′ N. lat., 124°36.81′ W. long.;

(110) 44°30.33′ N. lat., 124°38.56′ W. long.;

(111) 44°30.04′ N. lat., 124°42.31′ W. long.;

(112) 44°26.84′ N. lat., 124°44.91′ W. long.;

(113) 44°17.99′ N. lat., 124°51.03′ W. long.;

(114) 44°13.68′ N. lat., 124°56.38′ W. long.;

(115) 44°08.30′ N. lat., 124°55.99′ W. long.;

(116) 43°56.67′ N. lat., 124°55.45′ W. long.;

(117) 43°56.47′ N. lat., 124°34.61′ W. long.;

(118) 43°42.73′ N. lat., 124°32.41′ W. long.;

(119) 43°30.93′ N. lat., 124°34.43′ W. long.;

(120) 43°20.83′ N. lat., 124°39.39′ W. long.;

(121) 43°17.45′ N. lat., 124°41.16′ W. long.;

(122) 43°07.04′ N. lat., 124°41.25′ W. long.;

(123) 43°03.45′ N. lat., 124°44.36′ W. long.;

(124) 43°03.90′ N. lat., 124°50.81′ W. long.;

(125) 42°55.70′ N. lat., 124°52.79′ W. long.;

(126) 42°54.12′ N. lat., 124°47.36′ W. long.;

(127) 42°50.00′ N. lat., 124°45.33′ W. long.;

(128) 42°44.00′ N. lat., 124°42.38′ W. long.;

(129) 42°40.50′ N. lat., 124°41.71′ W. long.;

(130) 42°38.23′ N. lat., 124°41.25′ W. long.;

(131) 42°33.03′ N. lat., 124°42.38′ W. long.;

(132) 42°31.89′ N. lat., 124°42.04′ W. long.;

(133) 42°30.09′ N. lat., 124°42.67′ W. long.;

(134) 42°28.28′ N. lat., 124°47.08′ W. long.;

(135) 42°25.22′ N. lat., 124°43.51′ W. long.;

(136) 42°19.23′ N. lat., 124°37.92′ W. long.;

(137) 42°16.29′ N. lat., 124°36.11′ W. long.;

(138) 42°13.67′ N. lat., 124°35.81′ W. long.;

(139) 42°05.66′ N. lat., 124°34.92′ W. long.;

(140) 42°00.00′ N. lat., 124°35.27′ W. long.;

(141) 41°47.04′ N. lat., 124°27.64′ W. long.;

(142) 41°32.92′ N. lat., 124°28.79′ W. long.;

(143) 41°24.17′ N. lat., 124°28.46′ W. long.;

(144) 41°10.12′ N. lat., 124°20.50′ W. long.;

(145) 40°51.41′ N. lat., 124°24.38′ W. long.;

(146) 40°43.71′ N. lat., 124°29.89′ W. long.;

(147) 40°40.14′ N. lat., 124°30.90′ W. long.;

(148) 40°37.35′ N. lat., 124°29.05′ W. long.;

(149) 40°34.76′ N. lat., 124°29.82′ W. long.;

(150) 40°36.78′ N. lat., 124°37.06′ W. long.;

(151) 40°32.44′ N. lat., 124°39.58′ W. long.;

(152) 40°30.00′ N. lat., 124°38.13′ W. long.;

(153) 40°24.82′ N. lat., 124°35.12′ W. long.;

(154) 40°23.30′ N. lat., 124°31.60′ W. long.;

(155) 40°23.52′ N. lat., 124°28.78′ W. long.;

(156) 40°22.43′ N. lat., 124°25.00′ W. long.;

(157) 40°21.72′ N. lat., 124°24.94′ W. long.;

(158) 40°21.87′ N. lat., 124°27.96′ W. long.;

(159) 40°21.40′ N. lat., 124°28.74′ W. long.;

(160) 40°19.68′ N. lat., 124°28.49′ W. long.;

(161) 40°17.73′ N. lat., 124°25.43′ W. long.;

(162) 40°18.37′ N. lat., 124°23.35′ W. long.;

(163) 40°15.75′ N. lat., 124°26.05′ W. long.;

(164) 40°16.75′ N. lat., 124°33.71′ W. long.;

(165) 40°16.29′ N. lat., 124°34.36′ W. long.; and

(166) 40°10.00′ N. lat., 124°21.12′ W. long.;

NMFS requests public comments on the Pacific Council's recommended modifications to the Plan and the proposed domestic fishing regulations. The Area 2A TAC will be set by the IPHC at its annual meeting on January 18-21, 2005, in Victoria, B.C. NMFS requests comments on the proposed changes to the Plan and domestic fishing regulations after the annual meeting but before 5pm local time on March 16, 2005, so that the public will have the opportunity to consider the final Area 2A TAC before submitting comments on the proposed changes. The States of Washington and Oregon will conduct public workshops shortly after the IPHC meeting to obtain input on the sport season dates. After the Area 2A TAC is known and after NMFS reviews public comments and comments from the states, NMFS will issue a final rule for the Area 2A Pacific halibut fisheries concurrent with the IPHC regulations for the 2005 Pacific halibut fisheries.

Classification

NMFS has prepared an EA/RIR/IRFA and a CE on the proposed changes to the Plan and annual domestic Area 2A halibut management measures. Copies of these documents are available from NMFS (see ADDRESSES).

NMFS prepared an IRFA that describes the economic impact this proposed rule, if adopted, would have on small entities. A description of the action, why it is being considered, and the legal basis for this action are contained at the beginning of this section in the preamble and in the SUMMARY section of the preamble. The IRFA is available from NMFS (see ADDRESSES). A summary of the IRFA follows:

A fish-harvesting business is considered a “small” business by the Small Business Administration (SBA) if it has annual receipts not in excess of $3.5 million. For related fish-processing businesses, a small business is one that employs 500 or fewer persons. For marinas and charter/party boats, a small business is one with annual receipts not in excess of $6.0 million. All of the businesses that would be affected by this action are considered small businesses under SBA guidance.

The proposed changes to the Plan, which allocates the catch of Pacific halibut among users in Washington, Oregon and California, would: (1) allow remaining quota from Washington's south coast subarea to be used to accommodate incidental catch in the south coast nearshore fishery; (2) allow quota projected to be unused to be transferred from the Oregon's central coast subarea to another subarea south of Leadbetter Point, WA; (3) revise the season structure for Oregon's all-depth spring and summer sport fisheries; (4) provide more flexibility for Oregon's inseason sport fishery management (triggers for additional fishery openings and bag limits in the all-depth summer fishery); (5) revise the public announcement process for the Oregon all-depth summer sport fishery; (6) revise the Columbia River subarea quota contributions from Oregon/California; (7) remove the minimum length requirement in all subareas south of Leadbetter Point, WA; (8) prohibit retention of all groundfish, except sablefish, in the Columbia River fishery during all days and in the Central Coast fisheries during “all-depth” days; (9) implement a closed area off Oregon's coast; and (10) revise all coordinates from degrees minutes seconds to degrees decimal minutes. These proposed changes to the Plan for each issue are intended to increase protection for overfished groundfish within the recreational halibut fisheries and to allow Oregon anglers easier access to their halibut quota. The flexible inseason management provisions, the fishery election process, and the domestic management measures in Area 2A have essentially not changed since 2004, but are included in the proposed rule to provide opportunity for public notice and comment.

These changes to the Plan and annual domestic Area 2A halibut management measures are authorized under the Pacific Halibut Act and implementing regulations at 50 CFR 300.60-65.

The proposed changes to the Plan will affect charter fishing operations that operate off Oregon. The IPHC issued 138 licenses to the charterboat fleet in 2004, approximately 52 of which were issued to Oregon charterboat operators. Specific data on the economics of halibut charter operations is unavailable. However, in January 2004 the Pacific States Marine Fisheries Commission (PSMFC) reported that there were about 150 charterboat vessels operating in waters off Oregon in 2000. Compared with the 52 IPHC charter licenses issued to Oregon addresses in 2004, this estimate suggests that approximately 35-percent of the Oregon charterboat fleet participates in the halibut fishery. The PSMFC has developed preliminary estimates of the annual revenues earned by this fleet and they vary by size class of the vessels and home state. In 2000, small Oregon charterboat vessels had an average annual revenue of about $7,000, an average length of 23.4 feet (7.2 meters), and typically carried six passengers. In 2000, medium Oregon charterboat vessels had an average annual revenue of $85,000, an average length of 41.4 feet and typically carried 19 to 20 passengers. These data confirm that Oregon charterboat vessels qualify as small entities under the Regulatory Flexibility Act.

The proposed changes to the Plan are not expected to result in any significant economic impacts for small entities. The proposed sport management measures for 2005 implement the Plan by managing the recreational fishery to meet the differing fishery needs of the various areas along the coast according to the Plan's objectives. The EA/RIR/IRFA for this action reviewed alternatives including no action, adopting a closed area on Stonewall Bank, prohibiting groundfish retention in the Columbia River and Oregon's Central coast areas, and removing the minimum length requirement. The preferred alternatives were to adopt both a closed area on Stonewall Bank and prohibit groundfish retention in the Columbia River and Oregon's Central coast areas as well as removing the minimum length requirement. There were no alternatives that could have similarly improved angler enjoyment of and participation in the fisheries while simultaneously protecting halibut and co-occurring groundfish species from overharvest. These changes do not include any reporting or recordkeeping requirements. These changes will also not duplicate, overlap or conflict with other laws or regulations.

This action has been determined to be not significant for purposes of Executive Order 12866.

Pursuant to Executive Order 13175, the Secretary of Commerce recognizes the sovereign status and co-manager role of Indian tribes over shared Federal and tribal fishery resources. At section 302(b)(5), the Magnuson-Stevens Fishery Conservation and Management Act reserves a seat on the Pacific Council for a representative of an Indian tribe with federally recognized fishing rights from California, Oregon, Washington, or Idaho.

The U.S. government formally recognizes that the 12 Washington Tribes have treaty rights to fish for Pacific halibut. In general terms, the quantification of those rights is 50 percent of the harvestable surplus of Pacific halibut available in the tribes' usual and accustomed (U and A) fishing areas (described at 50 CFR 300.64). Each of the treaty tribes has the discretion to administer their fisheries and to establish their own policies to achieve program objectives. Accordingly, tribal allocations and regulations, including the proposed changes to the Plan, have been developed in consultation with the affected tribe(s) and, insofar as possible, with tribal consensus.

Authority: 16 U.S.C. 773-773k

Dated: February 1, 2005.
John Oliver,
Deputy Assistant Administrator for Operations, National Marine Fisheries Service.

[FR Doc. 05-2282 Filed 2-4-05; 8:45 am]

BILLING CODE 3510-22-S